DEPARTMENT OF DEFENSE

Department of the Army

Record of Decision for the Implementation of Energy, Water, and Solid Waste Sustainability Initiatives at Fort Bliss, TX and NM

AGENCY: Department of the Army, DoD.

ACTION: Notice of availability.

SUMMARY: The Department of the Army and Fort Bliss announce the decision to proceed with the Preferred Alternative identified in the Final Environmental Impact Statement (FEIS) for the Implementation of Energy, Water, and Solid Waste Sustainability Initiatives, which allows Fort Bliss to implement Net Zero initiatives, comply with federal and Army energy mandates, and meet the Army's energy and water security objectives. The Record of Decision (ROD) explains the potential environmental and socioeconomic impacts associated with the proposed action, which consists of multiple, related, and interconnected projects with the goal of conserving energy and water, and reducing waste production. The selected alternative provides the proper balance of initiatives for the protection of environmental and mission-essential actions. The ROD also identifies mitigation that will reduce or eliminate adverse impacts.

ADDRESSES: The ROD can be obtained at https://www.bliss.army.mil/dpw/Environmental/EISDocuments2.html. Written requests to obtain a copy of the ROD should be addressed to Dr. John Kipp, Fort Bliss Directorate of Public Works, Attention: IMBL-PWE (Kipp), Building 624 Pleasonton Road, Fort Bliss, TX 79916; email: john.m.kipp6.civ@mail.mil; fax: (915) 568-3548.

FOR FURTHER INFORMATION CONTACT: Please contact Ms. Donita Kelley, Fort Bliss Public Affairs Office, Attention: IMBL-PA (Kelley), Building 15 Slater Road, Fort Bliss, TX 79916; phone: (915) 568-4505; email: donita.k.schexnaydre.civ@mail.mil.

SUPPLEMENTARY INFORMATION: The Army examined the potential environmental and socioeconomic impacts from implementing multiple, related, and interconnected proposed projects that could be taken to implement Net Zero energy, water, and waste initiatives, comply with federal and Army energy mandates, and meet the Army's energy and water security objectives. Not all projects identified in the ROD would be implemented to the full extent discussed in the FEIS. Technological advancements, legislative changes, and other factors may result in revisions to the proposed projects.

The selected action alternative consists of six action alternatives (Alternatives 2 through 7): implementation of conservation policies and procedures (Alternative 2); construction of a water reclamation pipeline (Alternative 3); construction and operation of a waste-to-energy plant (Alternative 4); construction and operation of a geothermal energy facility (Alternative 5); and construction of dry-cooled concentrating solar power technology (Alternative 6). Alternative 7 proposes implementation of other renewable energy technologies and projects that are compatible with installation planning criteria and address potential future renewable energy, water, and waste technology actions at a programmatic level. Alternative 4, waste-to-energy plant, was analyzed from a programmatic perspective only. The Army will conduct further analysis of specific sites, should it consider pursuing this type of technology in the future. As warranted, additional site-specific analyses will occur for other projects, as well.

The ROD incorporates analyses contained in the FEIS for the Implementation of Energy, Water, and Solid Waste Sustainability Initiatives, including comments provided during formal comment and review periods. As a result of comments made on the Draft Environmental Impact Statement (DEIS), changes in the FEIS included the removal of site-specific locations for a proposed waste-to-energy plant, with analysis of the alternative now from a programmatic perspective only. The ROD contains a commitment to identify new potential sites and conduct further analysis, should the Army consider pursuing this type of technology in the future.

Implementation of this decision is expected to result in direct, indirect, and cumulative impacts to Fort Bliss. Environmental impacts are expected as a result of construction and operation of renewable energy technologies and conservation policies and procedures. The potential for significant environmental impacts is greatest for air quality, vegetation, archeological sites, soils, land use, and traffic. Of these, all but land use (as a result of converting training land to developed land) and soils (disturbance of up to 300 acres for construction of concentrating solar power arrays) are anticipated to be mitigable to less than significant. Potentially beneficial impacts are projected for air quality, energy demand and generation, socioeconomics, water supply sources, water demand, and wastewater reuse. To minimize the potential adverse impacts from implementation of the Proposed Action, the Army will mitigate these potential effects through a variety of strategies, as described in the ROD. All practicable means to avoid or minimize environmental harm from the selected alternatives have been adopted.

The selected alternative provides the necessary policies, procedures, and infrastructure upgrades to meet DoD requirements. The decision provides the proper balance of initiatives for the protection of the environment and supports the U.S. Army's Net Zero initiatives in concert with supporting on-going and future mission requirements.

The ROD contains a summary of the environmental impacts and rationale for the Army's decision.

Brenda S. Bowen,
Army Federal Register Liaison Officer.

[FR Doc. 2014-19125 Filed 8-12-14; 8:45 am]

BILLING CODE 3710-08-P